DEPARTMENT OF COMMERCE

Census Bureau

Agency Information Collection Activities; Submission to the Office of Management and Budget (OMB) for Review and Approval; Comment Request; Spatial, Address, and Imagery Data Program

AGENCY: Census Bureau, Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed extension of the Spatial, Address, and Imagery Data (SAID) Program, prior to the submission of the information collection request (ICR) to OMB for approval.

DATES: To ensure consideration, comments regarding this proposed information collection must be received on or before September 27, 2021.

ADDRESSES: Interested persons are invited to submit written comments by email to robin.a.pennington@census.gov. Please reference Spatial, Address, and Imagery Data Program in the subject line of your comments. You may also submit comments, identified by Docket Number USBC-2021-0016, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Matthew A. Zimolzak, Geography Division, Census Bureau, 301-763-9419, matthew.a.zimolzak@census.gov.

SUPPLEMENTARY INFORMATION:

I. Abstract

The Spatial, Address, and Imagery Data (SAID) Program is one of many voluntary geographic partnership programs that collects data to update the U.S. Census Bureau's geographic database of addresses, streets, boundaries, and imagery, known as the Master Address File/Topologically Integrated Geographic Encoding and Referencing (MAF/TIGER) System. The Census Bureau uses the MAF/TIGER System to link demographic data from surveys and the decennial census to locations and areas, such as cities, American Indian reservations and trust lands, census tracts, and counties. In order to properly tabulate census and survey response data by the correct geographic area, the Census Bureau requires current and accurate addresses and boundaries.

The SAID Program provides the Census Bureau with a continuous method to obtain current, accurate, and complete address, street centerline, and imagery data from tribal, state, and local government partners. The purpose of the SAID Program is to help maintain the Census Bureau's geographic framework for data collection, tabulation, and dissemination between decennial censuses and to support ongoing programs such as the American Community Survey and the Population Estimates Program. Over the past eight (8) years, the SAID Program, originally titled the Geographic Support System (GSS) Partnership Program, has enabled the Census Bureau to update addresses and street centerlines across the country, with participation covering nearly 89% of the housing units in the nation. Moving forward, the SAID Program will continue to focus on acquiring addresses, street centerlines, and imagery in areas targeted for housing unit growth or change.

II. Method of Collection

Each year, the SAID Program invitees are determined by several different evaluation factors, including address growth, address change, comparison with other Census Bureau statistics, past SAID or GSS Partnership Program participation status, and other factors. The Census Bureau contacts potential participants by telephone and email to request addresses, street centerlines, and imagery data that are no more than two years old, along with supporting metadata. In some cases, the Census Bureau will request entire datasets, while in other cases the Census Bureau may request only changes since a previous submission. The Census Bureau attempts to contact each invitee no less than three times before contact is rescheduled for a later cycle. The Census Bureau provides the participants who agree to provide data with information needed to create a Secure Web Incoming Module (SWIM) account, used for secure data transfers to the Census Bureau. Participants then submit their data in a single submission through the SWIM at their convenience. If a participant submits files with incomplete metadata, the Census Bureau will contact the participant requesting the additional metadata information. The Census Bureau will only process the files with appropriate metadata.

The data collected in the SAID Program may be used to define geographic boundaries, including census blocks, and to place households and group quarters in a specific census block. The SAID Program follows the process below:

1. The Census Bureau invites participants, including tribal, state, and local governments; federal agencies; and other authoritative organizations each fiscal year.

2. Participants are asked to provide a current address list with associated location points and attributes, street centerline, and/or imagery data for their jurisdiction that is no more than two years old.

3. Participants upload the requested data files using the SWIM, per Census Bureau procedures.

4. The Census Bureau validates then updates the MAF/TIGER System with the address and street centerline data provided by the participants and uses the provided imagery for quality control and change detection.

5. The Census Bureau uses the updated addresses and streets to support Census Bureau field operations, survey response collection, and data tabulation.

III. Data

OMB Control Number: 0607-1008.

Form Number(s): None.

Type of Review: Regular submission.

Affected Public: Tribal, state, county and local governments and other organizations.

Estimated Number of Respondents: 1,500.

• Census Bureau Contact with Local Governments: 1,000.

• Census Bureau Acquisition of Local Geographic Data and Content Clarification: 500.

Estimated Time per Response: 2.5 hours.

• Census Bureau Contact with Local Governments: 1 hour.

• Census Bureau Acquisition of Local Geographic Data and Content Clarification: 1.5 hours.

Estimated Total Annual Burden Hours: 2,500.

• Census Bureau Contact with Local Governments: 1,000.

• Census Bureau Acquisition of Local Geographic Data and Content Clarification: 1,500.

Estimated Total Annual Cost to Public: $0. (This is not the cost of respondents' time, but the indirect costs respondents may incur for such things as purchases of specialized software or hardware needed to report, or expenditures for accounting or records maintenance services required specifically by the collection.)

Respondent's Obligation: Voluntary.

Legal Authority: Title 13 U.S.C. 16, 141, and 193.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-16156 Filed 7-28-21; 8:45 am]

BILLING CODE 3510-07-P